DEPARTMENT OF ENERGY

Federal Energy Regulatory Commission

[Project No. 15116-000]

Ocean Renewable Power Company, Inc.; Notice of Preliminary Permit Application Accepted for Filing and Soliciting Comments, Motions To Intervene, and Competing Applications

On April 29, 2021, Ocean Renewable Power Company, Inc. filed an application for a preliminary permit, pursuant to section 4(f) of the Federal Power Act, proposing to study the feasibility of the proposed East Foreland Tidal Energy Project No. 15116-000, to be located on Cook Inlet near Nikiski and adjacent lands of the Kenai Peninsula Borough, Alaska. The sole purpose of a preliminary permit, if issued, is to grant the permit holder priority to file a license application during the permit term. A preliminary permit does not authorize the permit holder to perform any land-disturbing activities or otherwise enter upon lands or waters owned by others without the owners' express permission.

The proposed project would consist of the following: (1) A series of proprietary turbine-generator units with a combined capacity of no more than 5 megawatts; (2) a 1- to 5-mile-long, 12.5- to 25-kV submarine transmission cable from the module site to an onshore location on the west coast of the Kenai Peninsula; (3) an approximately 0.75-mile-long, 12.5- to 25-kV above-ground transmission line leading to a substation owned by Homer Electric Association; and (4) appurtenant facilities. The estimated annual generation of the East Foreland project would be up to 13.5 gigawatt-hours.

Applicant Contact: Nathan Johnson, 254 Commercial Street, Suite 119B, Portland, Maine 04101; phone: (207) 772-7707; email: njohnson@orpc.co.

FERC Contact: Kristen Sinclair; phone: (202) 502-6587; email: kristen.sinclair@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15116-000.

More information about this project, including a copy of the application, can be viewed or printed on the “eLibrary” link of Commission's website at http://www.ferc.gov/docs-filing/elibrary.asp. Enter the docket number (P-15116) in the docket number field to access the document. For assistance, contact FERC Online Support.

Dated: May 5, 2021.
Kimberly D. Bose,
Secretary.

[FR Doc. 2021-09927 Filed 5-10-21; 8:45 am]

BILLING CODE 6717-01-P